SUSQUEHANNA RIVER BASIN COMMISSION

Public Hearing

AGENCY: Susquehanna River Basin Commission.

ACTION: Notice.

SUMMARY: The Susquehanna River Basin Commission will hold a public hearing on May 2, 2024. The Commission will hold this hearing in person and telephonically. At this public hearing, the Commission will hear testimony on the projects listed in the Supplementary Information section of this notice and testimony on the proposed rulemaking for agency procurement and bid protest procedures, as well as a draft policy entitled “SRBC Procurement Procedures.” Such projects and actions are intended to be scheduled for Commission action at its next business meeting, tentatively scheduled for June 13, 2024, which will be noticed separately. The public should note that this public hearing will be the only opportunity to offer oral comments to the Commission for the listed projects and actions. The deadline for the submission of written comments is May 13, 2024.

DATES: The public hearing will convene on May 2, 2024, at 6:30 p.m. The public hearing will end at 9:00 p.m. or at the conclusion of public testimony, whichever is earlier. The deadline for submitting written comments is Monday, May 13, 2024.

ADDRESSES: This public hearing will be conducted in person and virtually. You may attend in person at Susquehanna River Basin Commission, 4423 N. Front St., Harrisburg, Pennsylvania, or join by telephone at Toll-Free Number 1-877-304-9269 and then enter the guest passcode 2619070 followed by #.

FOR FURTHER INFORMATION CONTACT: Jason Oyler, General Counsel and Secretary to the Commission, telephone: (717) 238-0423 or joyler@srbc.gov. The draft rulemaking and policy can be viewed on the Commission's website at https://www.srbc.gov/meeting-comment/default.aspx?type=19&cat=43. Information concerning the project applications is available at the Commission's Water Application and Approval Viewer at https://www.srbc.net/waav. Additional supporting documents are available to inspect and copy in accordance with the Commission's Access to Records Policy at www.srbc.gov/regulatory/policies-guidance/docs/access-to-records-policy-2009-02.pdf.

SUPPLEMENTARY INFORMATION: The public hearing will cover the following projects:

Projects Scheduled for Action

1. Project Sponsor: Berwick Enterprises, Inc. Project Facility: The Bridges Golf Club, Berwick Township, Adams County, Pa. Application for renewal of consumptive use of up to 0.249 mgd (30-day average) (Docket No. 19950102).

2. Project Sponsor and Facility: BKV Operating, LLC (Meshoppen Creek), Washington Township, Wyoming County, Pa. Application for renewal of surface water withdrawal of up to 2.160 mgd (peak day) (Docket No. 20190602).

3. Project Sponsor and Facility: BKV Operating, LLC (Susquehanna River), Washington Township, Wyoming County, Pa. Application for renewal of surface water withdrawal of up to 2.914 mgd (peak day) (Docket No. 20190603).

4. Project Sponsor and Facility: BKV Operating, LLC (unnamed tributary to Middle Branch Wyalusing Creek), Forest Lake Township, Susquehanna County, Pa. Application for renewal of surface water withdrawal of up to 0.648 mgd (peak day) (Docket No. 20190604).

5. Project Sponsor: Byler Golf Management, Inc. Project Facility: Iron Valley Golf Club, Cornwall Borough, Lebanon County, Pa. Applications for renewal of consumptive use of up to 0.300 mgd (30-day average) and groundwater withdrawals (30-day averages) of up to 0.300 mgd from Well Lb-814 and 0.140 mgd from Well B (Docket No. 20200902).

6. Project Sponsor: Cowanesque Valley Recreation Association. Project Facility: River Valley Country Club, Westfield Township, Tioga County, Pa. Application for renewal of consumptive use of up to 0.099 mgd (30-day average) (Docket No. 20020602).

7. Project Sponsor and Facility: Dillsburg Area Authority, Carroll Township, York County, Pa. Application for renewal of groundwater withdrawal of up to 0.280 mgd (30-day average) from Well 5A (Docket No. 19980703).

8. Project Sponsor and Facility: EQT ARO LLC (Pine Creek), McHenry Township, Lycoming County, Pa. Application for renewal of surface water withdrawal of up to 1.500 mgd (peak day) (Docket No. 20190601).

9. Project Sponsor and Facility: Keystone Clearwater Solutions, LLC (Lycoming Creek), Lewis Township, Lycoming County, Pa. Application for renewal of surface water withdrawal of up to 1.250 mgd (peak day) (Docket No. 20190608).

10. Project Sponsor and Facility: Lear Corporation Pine Grove, Pine Grove Borough, Schuylkill County, Pa. Application for renewal of consumptive use of up to 0.160 mgd (30-day average) (Docket No. 19940501).

11. Project Sponsor: Londonderry Township. Project Facility: Sunset Golf Course, Londonderry Township, Dauphin County, Pa. Application for renewal of consumptive use of up to 0.181 mgd (30-day average) (Docket No. 20190613). Located in an Environmental Justice area.

12. Project Sponsor and Facility: Lycoming County Water and Sewer Authority, Fairfield Township, Lycoming County, Pa. Application for groundwater withdrawal of up to 0.216 mgd from Well PW-2 (30-day average).

13. Project Sponsor and Facility: Mount Joy Borough Authority, Mount Joy Borough, Lancaster County, Pa. Application for renewal of groundwater withdrawal of up to 1.020 mgd (30-day average) from Well 3 (Docket No. 20070607), and modification of Docket Nos. 20110617, 20110617-1, and 20110617-2 for Wells 1 and 2 by adding conditions related to Well 3 and proposed operations.

14. Project Sponsor: Pennsylvania—American Water Company. Project Facility: Philipsburg/Moshannon District, Rush Township, Centre County, Pa. Applications for renewal of groundwater withdrawals (30-day averages) of up to 0.600 mgd from Cold Stream Well 1, 0.432 mgd from Cold Stream Well 2, and 0.374 mgd from Cold Stream Well 3 (Docket No. 19890302).

15. Project Sponsor and Facility: Seneca Resources Company, LLC (Tioga River), Richmond Township, Tioga County, Pa. Application for surface water withdrawal of up to 3.000 mgd (peak day).

16. Project Sponsor and Facility: Shippensburg Borough Authority, Southampton Township, Franklin County, Pa. Application for renewal of groundwater withdrawal of up to 1.900 mgd from Well 2 (Docket No. 19940504).

17. Project Sponsor and Facility: SWN Production Company, LLC (North Branch Mehoopany Creek), Forkston Township, Wyoming County, Pa. Application for surface water withdrawal of up to 2.500 mgd (peak day).

18. Project Sponsor and Facility: Tower City Borough Authority, Porter Township, Schuylkill County, Pa. Applications for renewal of groundwater withdrawals (30-day averages) of up to 0.086 mgd from Well 5 and 0.070 mgd from Well 6 (Docket No. 19920301). Located in an Environmental Justice area.

19. Project Sponsor and Facility: Town of Erwin, Steuben County, N.Y. Applications for renewal of groundwater withdrawals (30-day averages) of up to 1.700 mgd from Well 4 and 0.634 mgd from Well 6 (Docket Nos. 19990503 and 20070602, respectively). Located in an Environmental Justice area.

Opportunity To Appear and Comment

Interested parties may call into the hearing to offer comments to the Commission on any business listed above required to be the subject of a public hearing. Given the nature of the meeting, the Commission strongly encourages those members of the public wishing to provide oral comments to pre-register with the Commission by emailing Jason Oyler at joyler@srbc.gov before the hearing date. The presiding officer reserves the right to limit oral statements in the interest of time and to control the course of the hearing otherwise. Access to the hearing via telephone will begin at 6:15 p.m. Guidelines for the public hearing are posted on the Commission's website, www.srbc.gov, before the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.gov/meeting-comment/default.aspx?type=2&cat=7. Comments mailed or electronically submitted must be received by the Commission on or before Monday, May 13, 2024, to be considered.

Authority: Pub. L. 91-575, 84 Stat. 1509 et seq., 18 CFR parts 806, 807, and 808.

Dated: April 4, 2024.
Jason E. Oyler,
General Counsel and Secretary to the Commission.

[FR Doc. 2024-07490 Filed 4-8-24; 8:45 am]

BILLING CODE 7040-01-P